DEPARTMENT OF ENERGY

Environmental Management Site-Specific Advisory Board, Idaho National Laboratory

AGENCY: Department of Energy.

ACTION: Notice of open meeting correction.

On March 3, 2010, the Department of Energy published a notice of open meeting announcing a meeting of the Environmental Management Site-Specific Advisory Board, Idaho National Laboratory to be held on March 16, 2010 75 FR 9590. In that notice, the meeting address was Hilton Garden Inn, 700 Lindsay Boulevard, Idaho Falls, Idaho 83402. Today's notice is announcing that the meeting address is Shilo Inn, 780 Lindsay Boulevard, Idaho Falls, Idaho 83402.

Issued in Washington, DC on March 10, 2010.
Rachel Samuel,
Deputy Committee Management Officer.

[FR Doc. 2010-5560 Filed 3-10-10; 4:15 pm]

BILLING CODE 6450-01-P